DEPARTMENT OF COMERCE

International Trade Administration

[Docket No. 251023-0165]

American AI Exports Program

AGENCY: International Trade Administration, U.S. Department of Commerce.

ACTION: Request for information.

SUMMARY: The Department of Commerce (the Department) is issuing this request for information (RFI) to solicit public comment on questions relating to the work of the American AI Exports Program (Program). As directed by Executive Order 14320, “Promoting the Export of the American AI Technology Stack” (E.O. 14320), the Department is establishing and implementing the Program and will issue a public request for proposals from industry-led consortia to deliver full-stack American AI export packages. Through this RFI, the Department is seeking information from the public on the request for proposals that the Department will issue pursuant to E.O. 14320, including comments relating to the AI technology stack, consortia membership and formation, foreign markets, proposals' business and operational models, federal support for consortia, national security regulations, and proposal evaluation. The Department welcomes comment on all aspects of the Program from all interested parties.

DATES: Comments on this RFI must be received on or before November 28, 2025.

ADDRESSES: All electronic public comments on this action, identified by Regulations.gov docket number ITA-ITA-2025-0070, may be submitted through the Federal e-rulemaking Portal at https://www.regulations.gov, as well as https://aiexports.gov. Response to this RFI is voluntary; you can choose to respond to all or some of the questions. Each individual or institution is requested to submit only one response. Submissions should be made in 12 point or larger font, with a page number provided on each page. All submissions should be captioned with “American AI Exports Program Comments.” Anyone submitting business confidential information should clearly identify the business confidential portion at the time of submission, file a statement justifying nondisclosure and referring to the specific legal authority claimed, and provide a non-confidential version of the submission.

For comments submitted electronically containing business confidential information, the file name of the business confidential version should begin with the characters “BC.” Any page containing business confidential information must be clearly marked “BUSINESS CONFIDENTIAL” on the top of that page. The corresponding non-confidential version of those comments must be clearly marked “PUBLIC.” The file name of the non-confidential version should begin with the character “P.” Any submissions with file names that do not begin with either a “BC” or a “P” will be assumed to be public and will be made publicly available at: https://www.regulations.gov. Commenters submitting business confidential information are encouraged to scan a hard copy of the non-confidential version to create an image of the file, rather than submitting a digital copy with redactions applied, to avoid inadvertent redaction errors which could enable the public to view business confidential information.

Please note that the U.S. Government will not pay for response preparation, or for the use of any information contained in the response. A response to this RFI will not be viewed as a binding commitment to develop or pursue the project or ideas discussed.

FOR FURTHER INFORMATION CONTACT: Emily Davis, Director for Public Affairs, International Trade Administration, U.S. Department of Commerce, 202-482-3809, Emily.Davis@trade.gov.

SUPPLEMENTARY INFORMATION:

I. Background

On July 23, 2025, President Trump issued Executive Order 14320, “Promoting the Export of the American AI Technology Stack.” E.O. 14320 established a coordinated national effort to support the American AI industry by promoting the export of full-stack American AI technology packages. In pursuing this effort, it is the policy of the United States to preserve and extend American leadership in AI and decrease international dependence on AI technologies developed by our adversaries by supporting the global deployment of United States-origin AI technologies.

To achieve these goals, E.O. 14320 directs the Secretary of Commerce, in consultation with the Secretary of State and the Director of the Office of Science and Technology Policy (OSTP), to establish the American AI Exports Program and issue a public call for proposals from industry-led consortia. Proposals must (1) include full-stack AI technology packages; (2) identify specific target countries or regional blocks for export engagement; (3) describe a business and operational model to explain, at a high level, which entities will build, own, and operate data centers and related infrastructure; (4) detail requested Federal incentives and support mechanisms; and (5) comply with United States export control regimes, outbound investment regulations and end user policies.

The Secretary of Commerce shall, in consultation with the Secretary of State, the Secretary of War, the Secretary of Energy, and the Director of OSTP, evaluate submitted proposals for inclusion under the Program. Proposals selected by the Secretary of Commerce, in consultation with the Secretary of State, the Secretary of War, the Secretary of Energy, and the Director of OSTP, will be designated as priority AI export packages and will be supported through priority access to federal financing and other tools. E.O. 14320 provides that the Economic Diplomacy Action Group (EDAG), chaired by the Secretary of State, in consultation with the Secretary of Commerce and the United States Trade Representative, is to coordinate mobilization of Federal financing tools in support of priority AI export packages. Members of the EDAG are to deploy, to the maximum extent permitted by law, available Federal tools to support the priority export packages selected for participation in the Program.

Pursuant to E.O. 14320, the International Trade Administration within the Department of Commerce has established the American AI Exports Program and is issuing this RFI to guide work on the Program's activities. Respondents may choose to answer only those questions most relevant to their expertise or interests.

II. Questions

Section A: Respondent Background

The Department recognizes that private-sector companies are the most likely type of organization to respond to this RFI, but that other entities (such as trade associations, potential buyers of American AI exports, and other members of civil society) may wish to submit responses as well. The Department requests that submissions contain the following background information:

1. Identify and describe who you represent and explain why you are providing input to this RFI. As appropriate, provide information about your company or organization that might be relevant, such as revenue, employee count, and key suppliers and customers.

2. If you represent a company or organization that is a potential American AI exporter, what goods or services does your company or organization offer? Furthermore, describe whether and to what extent such goods or services are manufactured, created, and developed in the United States.

3. If you represent a company or organization which is a potential American AI exporter, are there ways you believe this Program could support your exports to priority foreign markets? Which foreign markets are the most likely customers for your exports and what assistance would be most valuable?

Section B: The AI Tech Stack

E.O. 14320 requires proposals to include a full-stack AI technology package. E.O. 14320 describes the full-stack AI technology package as encompassing (1) AI-optimized computer hardware (e.g., chips, servers, and accelerators), data center storage, cloud services, and networking, as well as a description of whether and to what extent such items are manufactured in the United States; (2) data pipelines and labeling systems; (3) AI models and systems; (4) measures to ensure the security and cybersecurity of AI models and systems; and (5) AI applications for specific use cases (e.g., software engineering, education, healthcare, agriculture, or transportation).

4. Should the components of the AI-technology stack described in E.O. 14320 be clarified or expanded upon? If so, what additional items should be included or what clarification should be provided?

5. What factors should guide the evaluation of each component of the tech stack when included in a proposal?

6. What challenges, if any, might a consortium face in developing a proposal that has all elements of a full-stack AI export package?

Section C: Consortia Membership and Formation

E.O. 14320 requires proposals from industry-led consortia. The Department seeks comment on who should participate and how consortia should be formed and governed.

7. Generally, if guidance were provided on how consortia should be formed and governed, what should be included in that guidance?

8. On consortia membership and composition:

a. What criteria should determine whether an entity is eligible to participate as a member in a consortium?

b. What criteria should determine whether a consortium as a whole is eligible to participate in the Program (e.g., having a minimum number of members, a certain amount of U.S. representation, capacity to export all parts of the AI technology stack, or other factors)?

c. Should modularity be encouraged within consortium formation, and if so, how?

d. How often should the Program expect industry to seek changes to consortium membership? How should the Program approach potential changes in consortium membership?

9. On the role of foreign companies and countries:

a. In what instances, and under what conditions, should foreign entities be allowed to participate in a consortium (e.g., a country's national champion)?

b. How should foreign entities become involved in the formation of consortia?

c. What role, if any, should foreign countries play in consortium development?

d. Should the Federal Government consider creating a “trusted partner” program for foreign countries or companies in the context of consortium development? What criteria would be necessary to certify a “trusted partner” as a consortium member or foreign country seeking to purchase an American AI export package? What benefits would being a “trusted partner” confer?

10. On ensuring that consortia are industry-led:

a. Should each consortium be required to designate a lead entity? If so, what characteristics might make an entity well-suited to lead a consortium?

b. What role, if any, should the Federal Government play in the formation of a consortium?

Section D: Foreign Markets

E.O. 14320 requires proposals to identify specific target countries or regional blocs for export engagement. The Department seeks comments on appropriate ways to support the global deployment of American AI technologies.

11. Are there countries or regions that should be viewed as a priority for exporting American AI technology? If so, which ones and why?

12. What are the tradeoffs that consortia might encounter between prioritizing specific countries and prioritizing regions for exports through the Program?

13. What factors and assessment criteria should be considered when evaluating stated priority markets (e.g., existing energy infrastructure)?

Section E: Business and Operational Models

E.O. 14320 requires proposals to describe a business and operational model that explains, at a high level, which entities will build, own, and operate data centers and associated infrastructure. The Department seeks comment on relevant factors that might influence this component of a proposal, and how the Program should treat various ownership and operational models.

14. Are there business, operational, or ownership models that the government should prioritize in consortia selection and, if so, why should these be prioritized? Further, if applicable, are there steps the Federal Government can take to encourage or require the formation of proposals that include these prioritized business and operational models?

15. What information could be provided to the government as part of the proposal that would evidence who builds, owns and operates the data centers and associated infrastructures? Is any type of documentation more burdensome to include?

16. What requirements should be in place for consortium partnerships with entities that may build, own, and operate data centers and associated infrastructure, but are not traditionally understood as part of the tech stack?

Section F: Federal Support

E.O. 14320 requires proposals to detail requested Federal incentives and support mechanisms. It further provides that members of the EDAG will deploy, to the maximum extent permitted by law, available Federal tools to support the priority export packages selected for participation in the Program, including direct loans and loan guarantees (12 U.S.C. 635); equity investments, co-financing, political risk insurance, and credit guarantees (22 U.S.C. 9621); and technical assistance and feasibility studies (22 U.S.C. 2421(b)). The Department seeks comment on what aspects of these tools or additional tools would be most useful to potential Program participants.

17. Which U.S. federal support mechanisms would be most useful to consortia and why? In addition to those identified in E.O. 14320, support mechanisms might include regulatory guidance, legislative proposals, identifying export opportunities, assisting navigation of foreign regulatory environments, and assisting with permits and export licenses, among others.

a. Are there any federal support mechanisms not identified above that the Department, in coordination with other federal agencies, should consider mobilizing to support designated AI export packages in the Program?

b. Would any of the federal support mechanisms listed above have to change their normal operations in any way to best support full-stack export packages? If so, how?

18. What requirements or conditions beyond those already required by law, if any, should consortia meet in order to gain access to federal support?

Section G: National Security Regulations

E.O. 14320 requires each proposal to comply with all relevant United States export control regimes, outbound investment regulations, and end-user policies, including chapter 58 of title 50, United States Code, and relevant guidance from the Bureau of Industry and Security within the Department of Commerce. The Department seeks comment on these compliance mechanisms.

19. What factors should be taken into account to ensure that activities under the Program comply with U.S. export control regimes, outbound investment regulations, end-user policies, and other national security regulations?

20. How might the Department use the Program to advance the export of American AI technology while decreasing international dependence on AI technologies developed by countries of concern?

21. What other factors should be considered to maximize the benefits of the Program for America's national security?

Section H: Evaluating Proposals

E.O. 14320 directs the Secretary of Commerce, in consultation with other agencies, to evaluate submitted proposals for inclusion under the Program. The Department seeks comment on how to implement this requirement.

22. What factors should be used to evaluate the relative merits of a consortium's proposal?

23. Should proposals be considered that would have non-consortium members providing a good or service in coordination with the consortium?

24. What are the relative tradeoffs of selecting more or fewer consortia for participation in the Program?

25. What other factors should be considered that would support proposals' ability to increase the competitiveness of American technology around the world?

Section I: Additional Information

The Department seeks input on any other aspects of the program that should be considered to ensure its success.

26. To what extent should participation in the Program be made available to American companies that fall within the AI tech-stack but that are not part of a consortium?

27. To what extent, and how, should the Federal Government seek to use the Program to promote the adoption of high-quality technical standards abroad?

28. What factors were not addressed by the foregoing questions but should be considered by the Department to ensure the success of the Program?

William Kimmitt,
Under Secretary for International Trade, United States Department of Commerce.

[FR Doc. 2025-19674 Filed 10-27-25; 8:45 am]

BILLING CODE 3510-DS-P